Title 3—

The President

Memorandum of March 18, 2016

Delegation of Authority Pursuant to Section 102(b) of the Hizballah International Financing Prevention Act of 2015

Memorandum for the Secretary of State

By the authority vested in me as President by the Constitution and the laws of the United States of America, including section 301 of title 3, United States Code, I hereby delegate to you the functions and authorities vested in the President by section 102(b) of the Hizballah International Financing Prevention Act of 2015 (Public Law 114-102) (the “Act”).

Any reference in this memorandum to the Act shall be deemed to be a reference to any future Act that is the same or substantially the same as such provision.

You are authorized and directed to publish this memorandum in the Federal Register.

THE WHITE HOUSE,

Washington, March 18, 2016

[FR Doc. 2016-07615

Filed 3-31-16; 8:45 am]

Billing code 4710-10-P